FEDERAL COMMUNICATIONS COMMISSION

[DA 05-422]

Notice of Suspension and of Proposed Debarment Proceedings; Schools and Libraries Universal Service Support Mechanism

AGENCY: Federal Communications Commission.

ACTION: Notice.

SUMMARY: The Enforcement Bureau (Bureau) gives notice of Mr. Qasim Bokhari (a/k/a Syed Qasim Ali Bokhari, a/k/a Kasim Bokhari) suspension from the schools and libraries universal service support mechanism. In addition, the Bureau gives notice that debarment proceedings are commencing against Mr. Qasim Bokhari.

DATES: Opposition request must be received by March 18, 2005. An opposition request by the party to be suspended must be received 30 days from the receipt of the suspension letter or by March 18, 2005. The Bureau will decide any opposition request for reversal or modification of suspension within 90 days of its receipt of such requests.

FOR FURTHER INFORMATION CONTACT: Diana Lee, Federal Communications Commission, Enforcement Bureau, Investigations and Hearings Division, Room 4-C330, 445 12th Street, SW., Washington DC 20554. Diana Lee may be contacted by phone at (202) 418-0843 or e-mail at Diana.Lee@fcc.gov.

SUPPLEMENTARY INFORMATION: The Bureau has suspension and debarment authority under 47 CFR 54.521 and 47 CFR 0.111(a)(14). Suspension will help ensure that the party to be suspended cannot continue to benefit from the schools and libraries mechanism pending resolution of the debarment process. Attached is the suspension letter, Notice of Suspension and of Proposed Debarment Proceeding, DA 05-422, which was mailed to Mr. Haider Bokhari and released on February 16, 2005. The letter (1) gives notice of the suspension and proposed debarment; (2) gives the reasons for the proposed debarment; (3) explains the debarment procedure; and (4) describes the potential effect of the debarment. The complete text of the suspension letter is available for public inspections and copying during regular business hours at the FCC Reference Information Center, Portal II, 445 12th Street, SW., Room CY-A257, Washington DC 20554. In addition, the complete text is available on the FCC's Web site at http://www.fcc.gov. The text may also be purchased from the Commission's duplicating contractor, Best Copy and Printing, Inc., Portals II, 445 12th Street, SW., Room CY-B402, Washington DC 20554, telephone (202) 488-5300 or (800) 378-3160, facsimile (202) 488-5563, or via e-mail http://www.bcpiweb.com.

Federal Communications Commission.
Hillary DeNigro,
Deputy Chief, Investigations and Hearings Division, Enforcement Bureau.

The suspension letter follows:

February 16, 2005

VIA CERTIFIED MAIL RETURN RECEIPT REQUESTED

Mr. Qasim Bokhari, (a/k/a Syed Qasim Ali Bokhari, a/k/a Kasim Bokhari), c/o Michael J. Steinle, Esquire, Steinle Law Offices, 2600 N Mayfair Rd-Suite 700, Milwaukee, WI 53226.

Re: Notice of Suspension and of Proposed Debarment, File No. EB-04-IH-0388

Dear Mr. Qasim Bokhari: The Federal Communications Commission (“FCC” or “Commission”) has received notice of your January 28, 2005 conviction for mail fraud in violation of 18 U.S.C. §§ 371 and 1341, and for money laundering in violation of the 18 U.S.C. § 1956(a) and (h).¹ Consequently, pursuant to 47 CFR § 54.521, this letter constitutes official notice of your suspension from the schools and libraries universal service support mechanism (“E-Rate program”). In addition, the Enforcement Bureau (“Bureau”) hereby notifies you that we are commencing debarment proceedings against you.²

¹ United States v. Bokhari et al, Case No. 04-CR-0056-RTR, Plea Agreement (E.D.WI filed and entered October 22, 2004) (“Qasim Bokhari Plea Agreement”); United States v. Qasim Bokhari, Case No. 04-CR-0056-RTR, Judgment (E.D.WI filed January 28, 2005 and entered February 3, 2005).

² 47 CFR § 54.521; 47 CFR § 0.111(a)(14) (delegating to the Enforcement Bureau authority to resolve universal service suspension and debarment proceedings pursuant to 47 CFR § 54.521).

I. Notice of Suspension

Pursuant to section 54.521(a)(4) of the Commission's rules,³ Your conviction requires the Bureau to suspend you from participating in any activities associated with or related to the schools and libraries fund mechanism, including the receipt of funds or discounted services through the schools and libraries fund mechanism, or consulting with, assisting, or advising applicants or service providers regarding the schools and libraries support mechanism.⁴ Your suspension becomes effective upon the earlier of your receipt of this letter or publication of notice in the Federal Register.⁵

³ 47 CFR § 54.521(a)(4). See Schools and Libraries Universal Service Support Mechanism, Second Report and Order and Further Notice of Proposed Rulemaking, 18 FCC Rcd 9202, 9225-9227, ¶¶ 67-74 (2003) (“Second Report and Order”).

⁴ Second Report and Order, 18 FCC Rcd at 9225, ¶ 67; 47 U.S.C. § 254; 47 CFR §§ 54.502-54.503; 47 CFR § 54.521(a)(4).

⁵ Second Report and Order, 18 FCC Rcd at 9226, ¶ 69; 47 CFR § 54.521(e)(1).

Suspension is immediate pending the Bureau's final debarment determination. You may contest this suspension or the scope of this suspension by filing arguments in opposition to the suspension, with any relevant documentation. Your request must be received within 30 days after it receives this letter or after notice is published in the Federal Register, whichever comes first.⁶ Such requests, however, will not ordinarily be granted.⁷ The Bureau may reverse or limit the scope of suspension only upon a finding of extraordinary circumstances.⁸ Absent extraordinary circumstances, the Bureau will decide any request for reversal or modification of suspension within 90 days of its receipt of such request.⁹

⁶ Second Report and Order, 18 FCC Rcd at 9226, ¶ 70; 47 CFR § 54.521(e)(4).

⁷ Second Report and Order, 18 FCC Rcd at 9226, ¶ 70.

⁸ 47 CFR § 54.521(e)(5).

⁹ See Second Report and Order, 18 FCC Rcd at 9226, ¶ 70; 47 CFR §§ 54.521(e)(5), 54.521(f).

II. Notice of Proposed Debarment

A. Reasons for and Cause of Debarment

The Commission has established procedures to prevent persons who have “defrauded the government or engaged in similar acts through activities associated with or related to the schools and libraries support mechanism” from receiving the benefits associated with that program.¹⁰ As provided by the October 22, 2004 plea agreement upon which your conviction is based, you pled guilty to mail fraud and money laundering offenses for activities in connection with your participation, through your Virginia-based consulting company, in the E-Rate program with certain schools in Wisconsin and Illinois. In connection with the mail fraud offenses, you admitted to conspiring and carrying out, with other co-conspirators, the following acts: (1) illegally inducing certain Wisconsin and Illinois schools to select your consulting company as the schools' E-Rate service provider by promising school officials that their school would not have to pay their undiscounted share of the cost under the E-Rate program; (2) taking over those schools' role in completing and submitting E-Rate applications, and causing those schools to enter into unnecessarily large contracts for infrastructure enhancements under the E-Rate program; (3) submitting materially false and fraudulent invoices and other documents to the E-Rate program claiming that the schools have been billed for their undiscounted share; (4) submitting materially false and fraudulent invoices and other documents to the E-Rate program claiming that certain work had been performed and goods supplied to the schools; and (5) receiving payment from the E-Rate program for goods and services that you fraudulently claimed your consulting company had provided to the schools.¹¹ In connection with the money laundering offenses, you admitted to conspiring and carrying out, with other co-conspirators, an unlawful scheme to transfer the fraudulently obtained E-Rate payments from the United States to Pakistan through the unknowing services of other individuals designed, in whole or in part, to conceal and disguise the nature, location, source, ownership, and control of these monies.¹² These actions constitute the conduct or transactions upon which this debarment proceeding is based.¹³ Moreover, your conviction on the basis of these acts falls within the categories of causes for debarment defined in section 54.521(c) of the Commission's rules.¹⁴ Therefore, pursuant to section 54.521(a)(4) of the Commission's rules, your conviction requires the Bureau to commence debarment proceedings against you.

¹⁰ Second Report and Order, 18 FCC Rcd at 9225, ¶ 66. The Commission's debarment rules define a “person” as “[a]ny individual, group of individuals, corporation, partnership, association, unit of government or legal entity, however, organized.” 47 CFR § 54.521(a)(6).

¹¹ See Qasim Bokhari Plea Agreement at 1-5.

¹² See Qasim Bokhari Plea Agreement at 1, 6-9.

¹³ Second Report and Order, 18 FCC Rcd at 9226, ¶ 70; 47 CFR § 54.521(e)(2)(i).

¹⁴ “Causes for suspension and debarment are the conviction of or civil judgment for attempt or commission of criminal fraud, theft, embezzlement, forgery, bribery, falsification or destruction of records, making false statements, receiving stolen property, making false claims, obstruction of justice and other fraud or criminal offense arising out of activities associated with or related to the schools and libraries support mechanism.” 47 CFR § 54.521(c). Such activities “include the receipt of funds or discounted services through the schools and libraries support mechanism, or consulting with, assisting, or advising applicants or service providers regarding schools and libraries support mechanism described in this section ([47 CFR] § 54.500 et seq.).” 47 CFR § 54.521(a)(1).

B. Debarment Procedures

You may contest debarment or the scope of the proposed debarment by filing arguments and any relevant documentation within 30 calendar days of the earlier of the receipt of this letter or of publication in the Federal Register.¹⁵ Absent extraordinary circumstances, the Bureau will debar you.¹⁶ Within 90 days of receipt of any opposition to your suspension and proposed debarment, the Bureau, in the absence of extraordinary circumstances, will provide you with notice of its decision to debar.¹⁷ If the Bureau decides to debar you, its decision will become effective upon the earlier of your receipt of a debarment notice or publication of the decision in the Federal Register.¹⁸

¹⁵ See Second Report and Order, 18 FCC Rcd at 9226, ¶ 70; 47 CFR §§ 54.521(e)(2)(i), 54.521(e)(3).

¹⁶ Second Report and Order, 18 FCC Rcd at 9227, ¶ 74.

¹⁷ See id., 18 FCC Rcd at 9226, ¶ 70; 47 CFR § 54.521(e)(5).

¹⁸ Id. The Commission may reverse a debarment, or may limit the scope or period of debarment upon a finding of extraordinary circumstances, following the filing of a petition by you or an interested party or upon motion by the Commission. 47 CFR § 54.521(f).

C. Effect of Debarment

If and when your debarment becomes effective, you will be prohibited from participating in activities associated with or related to the schools and libraries support mechanism for at least three years from the date of debarment.¹⁹ The Bureau may, if necessary to protect the public interest, extend the debarment period.²⁰

¹⁹ Second Report and Order, 18 FCC Rcd at 9225, ¶ 67; 47 CFR §§ 54.521(d), 54.521(g).

²⁰ Id.

Please direct any responses to the following address: Diana Lee, Federal Communications Commission, Enforcement Bureau, Investigations and Hearings Division, Room 4-C443, 445 12th Street, SW., Washington, DC 20554.

If you submit your response via hand-delivery or non-United States Postal Service delivery (e.g., Federal Express, DHL, etc.), please send the response to Ms. Lee at the following address: Federal Communications Commission, 9300 East Hampton Drive, Capitol Heights, MD 20743.

If you have any questions, please contact Ms. Lee via mail, by telephone at (202) 418-0843 or by e-mail at diana.lee@fcc.gov.

Sincerely yours,

William H. Davenport,

Chief, Investigations and Hearings Division, Enforcement Bureau.

cc: Carla Stern, Assistant United States Attorney, DOJ (E-mail), Kristy Carroll, Esq., USAC (E-mail)

[FR Doc. 05-3801 Filed 2-25-05; 8:45 am]

BILLING CODE 6712-01-P